DEPARTMENT OF COMMERCE

National Oceanic and Atmospheric Administration

Availability of Seats for the Florida Keys National Marine Sanctuary Advisory Council

AGENCY: National Marine Sanctuary Program (NMSP), National Ocean Service (NOS), National Oceanic and Atmospheric Administration, Department of Commerce (DOC).

ACTION: Notice and request for applications.

SUMMARY: The Florida Keys National Marine Sanctuary (FKNMS or Sanctuary) is seeking applicants for the following vacant seats on its Sanctuary Advisory Council (Council): Maritime Heritage; South Florida Ecosystem Restoration; South Florida Ecosystem Restoration (alternate); Citizen-at-Large, Upper Keys (alternate); Commercial fishing, Marine/Tropical (alternate); Charter Fishing, Sports (alternate) and Conservation & Environment (2). Applicants are chosen based upon their particular expertise and experience in relation to the seat for which they are applying; community and professional affiliations; philosophy regarding the protection and management of marine resources; and the length of residence in the area affected by the Sanctuary. The Conservation & Environment seat has the additional requirement that the applicants are employed by accredited non-profit organizations and live in Monroe County or Dade County. Applicants who are chosen as members should expect to serve 3-year terms, pursuant to the Council's Charter.

DATES: Applications are due by December 3, 2004.

ADDRESSES: Application kits may be obtained from Fiona Wilmot, Florida Keys National Marine Sanctuary, P.O. Box 500368, Marathon, FL 33050. Completed applications should be sent to the same address.

FOR FURTHER INFORMATION CONTACT: Fiona Wilmot at the above address or (305) 743-2437, ext. 27 or Fiona.Wilmot@noaa.gov.

SUPPLEMENTARY INFORMATION: The Council provides information for Sanctuary Managers on a wide variety of issues. The 20 member Council of stakeholders reflects the larger community from which it is drawn and meets bimonthly. Smaller working groups meet as necessary on specific topics.

Authority: 16 U.S.C. 1431, et seq.

(Federal Domestic Assistance Catalog Number 11.429, Marine Sanctuary Program)
Dated: November 10, 2004.
Daniel J. Basta,
Director, National Marine Sanctuary Program, National Ocean Services, National Oceanic and Atmospheric Administration.

[FR Doc. 04-25607 Filed 11-17-04; 8:45 am]

BILLING CODE 3510-NK-M